FEDERAL MARITIME COMMISSION

Notice of Agreements Filed

The Commission hereby gives notice of filing of the following agreements under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreement are available through the Commission's website (www.fmc.gov) or by contacting the Office of Agreements at (202) 523-5793 or tradeanalysis@fmc.gov.

Agreement No.: 201448.

Agreement Name: Hapag-Lloyd/Maersk CES TAO2 Slot Exchange Agreement.

Parties: Hapag-Lloyd AG; Maersk A/S.

Filing Party: Wayne Rohde, Cozen O'Connor.

Synopsis: The Agreement authorizes the Parties to exchange space on Hapag-Lloyd's CES service and Maersk's TA02 service in the trades between the U.S. East Coast on the one hand and ports in the United Kingdom, Belgium, Canada, Colombia, Germany and the Netherlands on the other hand.

Proposed Effective Date: 03/3/2025.

Location: https://www2.fmc.gov/FMC.Agreements.Web/Public/AgreementHistory/88595.

Agreement No.: 201157-010.

Agreement Name: USMX-ILA Master Contract Memorandum of Settlement.

Parties: International Longshoremen's Association, AFL-CIO and United States Maritime Alliance, Ltd.

Filing Party: Jim Campbell, The Lambos Firm LLP.

Synopsis: The Amendment extends the October 1, 2024 termination date of the USMX-ILA Master Contract through and including March 31, 2025, to allow time for the parties to ratify their tentative agreement.

Location: https://www2.fmc.gov/FMC.Agreements.Web/Public/AgreementHistory/8153.

Dated: January 24, 2025.
Jennifer Everling,
Assistant Secretary.

[FR Doc. 2025-01894 Filed 1-28-25; 8:45 am]

BILLING CODE 6730-02-P